DEPARTMENT OF HOMELAND SECURITY

Federal Emergency Management Agency

44 CFR Part 65

[Docket ID FEMA-2011-0002]

Changes in Flood Elevation Determinations

AGENCY: Federal Emergency Management Agency, DHS.

ACTION: Final rule.

SUMMARY: Modified Base (1% annual-chance) Flood Elevations (BFEs) are finalized for the communities listed below. These modified BFEs will be used to calculate flood insurance premium rates for new buildings and their contents.

DATES: The effective dates for these modified BFEs are indicated on the following table and revise the Flood Insurance Rate Maps (FIRMs) in effect for the listed communities prior to this date.

ADDRESSES: The modified BFEs for each community are available for inspection at the office of the Chief Executive Officer of each community. The respective addresses are listed in the table below.

FOR FURTHER INFORMATION CONTACT: Luis Rodriguez, Chief, Engineering Management Branch, Federal Insurance and Mitigation Administration, Federal Emergency Management Agency, 500 C Street SW., Washington, DC 20472, (202) 646-4064, or (email) Luis.Rodriguez3@fema.dhs.gov.

SUPPLEMENTARY INFORMATION: The Federal Emergency Management Agency (FEMA) makes the final determinations listed below of the modified BFEs for each community listed. These modified BFEs have been published in newspapers of local circulation and ninety (90) days have elapsed since that publication. The Deputy Federal Insurance and Mitigation Administrator has resolved any appeals resulting from this notification.

The modified BFEs are not listed for each community in this notice. However, this final rule includes the address of the Chief Executive Officer of the community where the modified BFE determinations are available for inspection.

The modified BFEs are made pursuant to section 206 of the Flood Disaster Protection Act of 1973, 42 U.S.C. 4105, and are in accordance with the National Flood Insurance Act of 1968, 42 U.S.C. 4001 et seq., and with 44 CFR part 65.

For rating purposes, the currently effective community number is shown and must be used for all new policies and renewals.

The modified BFEs are the basis for the floodplain management measures that the community is required either to adopt or to show evidence of being already in effect in order to qualify or to remain qualified for participation in the National Flood Insurance Program (NFIP).

These modified BFEs, together with the floodplain management criteria required by 44 CFR 60.3, are the minimum that are required. They should not be construed to mean that the community must change any existing ordinances that are more stringent in their floodplain management requirements. The community may at any time enact stricter requirements of its own or pursuant to policies established by other Federal, State, or regional entities.

These modified BFEs are used to meet the floodplain management requirements of the NFIP and also are used to calculate the appropriate flood insurance premium rates for new buildings built after these elevations are made final, and for the contents in those buildings. The changes in BFEs are in accordance with 44 CFR 65.4.

National Environmental Policy Act. This final rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Regulatory Classification. This final rule is not a significant regulatory action under the criteria of section 3(f) of Executive Order 12866 of September 30, 1993, Regulatory Planning and Review, 58 FR 51735.

Executive Order 13132, Federalism. This final rule involves no policies that have federalism implications under Executive Order 13132, Federalism.

Executive Order 12988, Civil Justice Reform. This final rule meets the applicable standards of Executive Order 12988.

List of Subjects in 44 CFR Part 65

Flood insurance, Floodplains, Reporting and recordkeeping requirements.

Accordingly, 44 CFR part 65 is amended to read as follows:

PART 65—[AMENDED]

1. The authority citation for part 65 continues to read as follows:

Authority: 42 U.S.C. 4001 et seq.; Reorganization Plan No. 3 of 1978, 3 CFR, 1978 Comp., p. 329; E.O. 12127, 44 FR 19367, 3 CFR, 1979 Comp., p.376.

§ 65.4 [Amended]

2. The tables published under the authority of § 65.4 are amended as follows:

State and county | Location and case No. | Date and name of newspaper where notice was published | Chief executive officer of community | Effective date of modification | Community No.
Alabama:
Baldwin (FEMA Docket No.: B-1206) | City of Orange Beach (11-04-0533P) | May 6, 2011; May 13, 2011; The Islander | The Honorable Tony Kennon, Mayor, City of Orange Beach, 4099 Orange Beach Boulevard, Orange Beach, AL 36561 | April 29, 2011 | 015011
Jefferson (FEMA Docket No.: B-1199) | Unincorporated areas of Jefferson County (10-04-7732P) | April 6, 2011; April 13, 2011; The Alabama Messenger | The Honorable David Carrington, President, Jefferson County Commission, 716 Richard Arrington Jr. Boulevard North, Birmingham, AL 35203 | August 11, 2011 | 010217
Arizona:
Maricopa (FEMA Docket No.: B-1199) | City of Tolleson (10-09-3593P) | April 26, 2011; May 3, 2011; The West Valley Business | The Honorable Adolfo F. Gámez, Mayor, City of Tolleson, 9555 West Van Buren Street, Tolleson, AZ 85353 | April 18, 2011 | 040055
Mohave (FEMA Docket No.: B-1199) | City of Lake Havasu City (10-09-2386P) | April 7, 2011; April 14, 2011; Today's News-Herald | The Honorable Mark S. Nexsen, Mayor, City of Lake Havasu City, 2330 McCulloch Boulevard, Lake Havasu City, AZ 86403 | March 28, 2011 | 040116
Yavapai (FEMA Docket No.: B-1199) | Unincoporated areas of Yavapai County (11-09-0165P) | April 7, 2011; April 14, 2011; The Daily Courier | The Honorable Carol Springer, Chair, Yavapai County Board of Supervisors, 1015 Fair Street, Prescott, AZ 86305 | August 12, 2011 | 040093
Colorado: Mesa (FEMA Docket No.: B-1199) | Unincorporated areas of Mesa County (11-08-0384P) | May 3, 2011; May 10, 2011; The Daily Sentinel | The Honorable Janet Rowland, Chair, Mesa County Board of Commissioners, 544 Rood Avenue, Old Courthouse, Grand Junction, CO 81501 | April 26, 2011 | 080115
Florida:
Monroe (FEMA Docket No.: B-1199) | Unincorporated areas of Monroe County (11-04-2239P) | April 6, 2011; April 13, 2011; The Key West Citizen | The Honorable Heather Carruthers, Mayor, Monroe County, 530 Whitehead Street, Key West, FL 33040 | August 11, 2011 | 125129
Orange (FEMA Docket No.: B-1211) | Unincorporated areas of Orange County (11-04-2514P) | April 7, 2011; April 14, 2011; The Orlando Weekly | The Honorable Teresa Jacobs, Mayor, Orange County, 201 South Rosalind Avenue, 5th Floor, Orlando, FL 32801 | August 12, 2011 | 120179
Pasco (FEMA Docket No.: B-1206) | Unincorporated areas of Pasco County (10-04-8088P) | May 6, 2011; May 13, 2011; The Tampa Tribune | The Honorable Ann Hildebrand, Chair, Pasco County Board of Commissioners, 7530 Little Road, New Port Richey, FL 34654 | April 29, 2011 | 120230
St. Lucie (FEMA Docket No.: B-1206) | Unincorporated areas of St. Lucie County (11-04-1456P) | May 6, 2011; May 13, 2011; The St. Lucie News-Tribune | The Honorable Chris Craft, Chairman, St. Lucie County Board of Commissioners, 2300 Virginia Avenue, Ft. Pierce, FL 34982 | April 27, 2011 | 120285
Volusia (FEMA Docket No.: B-1199) | Unincorporated areas of Volusia County (10-04-4834P) | April 7, 2011; April 14, 2011; The Beacon | Mr. James Dinneen, Volusia County Manager, 123 West Indiana Avenue, DeLand, FL 32720 | August 12, 2011 | 125155
Georgia:
Bryan (FEMA Docket No.: B-1199) | Unincorporated areas of Bryan County (10-04-4427P) | April 6, 2011; April 13, 2011; The Bryan County News | The Honorable Jimmy Burnsed, Chairman, Bryan County Board of Commissioners, 51 North Courthouse Street, Pembroke, GA 31321 | August 11, 2011 | 130016
Forsyth (FEMA Docket No.: B-1199) | Unincorporated areas of Forsyth County, (11-04-1171P) | March 23, 2011; March 30, 2011; The Forsyth County News | The Honorable Brian R. Tam, Chairman, Forsyth County Board of Commissioners, 110 East Main Street, Suite 210, Cumming, GA 30040 | July 28, 2011 | 130312
Mississippi: DeSoto (FEMA Docket No.: B-1195) | City of Olive Branch (10-04-5201P) | March 31, 2011; April 7, 2011; The DeSoto Times Tribune | The Honorable Sam Rikard, Mayor, City of Olive Branch, 9200 Pigeon Roost Road, Olive Branch, MS 38654 | August 5, 2011 | 280286
Montana: Yellowstone (FEMA Docket No.: B-1199) | Unincorporated areas of Yellowstone County (10-08-0854P) | March 31, 2011; April 7, 2011; The Billings Gazette | The Honorable Bill Kennedy, Chairman, Yellowstone County Board of Commissioners, 217 North 27th Street, Room 403A, Billings, MT 59107 | August 5, 2011 | 300142
Nevada: Douglas (FEMA Docket No.: B-1199) | Unincorporated areas of Douglas County (10-09-3566P) | April 6, 2011; April 13, 2011; The Record-Courier | The Honorable Michael A. Olson, Chairman, Douglas County Board of Commissioners, 3605 Silverado Drive, Carson City, NV 89705 | August 11, 2011 | 320008
New Mexico:
Roosevelt (FEMA Docket No.: B-1203) | City of Portales (11-06-1696P) | May 6, 2011; May 13, 2011; The Portales News-Tribune | The Honorable Sharon King, Mayor, City of Portales, 100 West 1st Street, Portales, NM 88130 | April 29, 2011 | 350054
Roosevelt (FEMA Docket No.: B-1203) | Unincorporated areas of Roosevelt County (11-06-1696P) | May 6, 2011; May 13, 2011; The Portales News-Tribune | Ms. Charlene Hardin, Roosevelt County Manager, 109 West 1st Street, 4th Floor, Portales, NM 88130 | April 29, 2011 | 350053
Santa Fe (FEMA Docket No.: B-1205) | City of Santa Fe (10-06-0575P) | December 21, 2010; December 28, 2010; The Santa Fe New Mexican | The Honorable David Coss, Mayor, City of Santa Fe, 200 Lincoln Avenue, Santa Fe, NM 87504 | November 22, 2010 | 350070
Santa Fe (FEMA Docket No.: B-1205) | Unincorporated areas of Santa Fe County (10-06-2504P) | December 29, 2010; January 5, 2011; The Santa Fe New Mexican | The Honorable Harry B. Montoya, Chairman, Santa Fe County Board of Commissioners, 102 Grant Avenue, Santa Fe, NM 87501 | May 5, 2011 | 350069
New York:
Monroe (FEMA Docket No.: B-1205) | Town of Irondequoit (10-02-0839P) | September 24, 2010; September 30, 2010; The Messenger-Post | The Honorable Mary J. D'Aurizio, Supervisor, Town of Irondequoit, 1280 Titus Avenue, Rochester, NY 14617 | March 17, 2011 | 360422
Oneida (FEMA Docket No.: B-1206) | City of Sherrill (10-02-0242P) | June 11, 2010; June 17, 2010; The Oneida Daily Dispatch | Mr. Robert A. Comis, Sherrill City Manager, 377 Sherrill Road, Sherrill, NY 13461 | December 3, 2010 | 360544
Rockland (FEMA Docket No.: B-1205) | Town of Orangetown (10-02-0398P) | October 8, 2010; October 15, 2010; The Journal News | The Honorable Paul Whalen, Supervisor, Town of Orangetown, 26 Orangeburg Road, Orangeburg, NY 10962 | April 4, 2011 | 360686
North Carolina: Buncombe (FEMA Docket No.: B-1195) | Town of Montreat (10-04-3559P) | March 10, 2011; March 17, 2011; The Black Mountain News | The Honorable Letta Jean Taylor, Mayor, Town of Montreat, 96 Rainbow Terrace, Montreat, NC 28757 | July 15, 2011 | 370476
Oklahoma: Cleveland (FEMA Docket No.: B-1201) | City of Norman (10-06-1004P) | October 6, 2010; October 13, 2010; The Norman Transcript | The Honorable Cindy S. Rosenthal, Mayor, City of Norman, 201 West Gray Street, Norman, OK 73069 | September 29, 2010 | 400046
Pennsylvania: Cumberland (FEMA Docket No.: B-1201) | Township of Upper Allen (10-03-1016P) | November 15, 2010; November 22, 2010; The Patriot-News | The Honorable James G. Cochran, President, Township of Upper Allen Board of Commissioners, 100 Gettysburg Pike, Mechanicsburg, PA 17055 | March 22, 2011 | 420372
South Carolina:
Lexington (FEMA Docket No.: B-1211) | City of Columbia (11-04-3465P) | May 5, 2011; May 12, 2011; The Lexington County Chronicle | The Honorable Steve Benjamin, Mayor, City of Columbia, 1737 Main Street, Columbia, SC 29201 | June 13, 2011 | 450172
Lexington (FEMA Docket No.: B-1211) | Unincorporated areas of Lexington County (11-04-3465P) | May 5, 2011; May 12, 2011; The Lexington County Chronicle | The Honorable James E. Kinard, Jr., Chairman, Lexington County Council, 212 South Lake Drive, Lexington, SC 29072 | June 13, 2011 | 450129
Texas:
Bexar (FEMA Docket No.: B-1205) | Unincorporated areas of Bexar County (09-06-3226P) | November 12, 2010; November 19, 2010; The San Antonio Express-News | The Honorable Nelson W. Wolff, Bexar County Judge, 101 West Nueva Street, 10th Floor, San Antonio, TX 78204 | November 5, 2010 | 480035
Bexar (FEMA Docket No.: B-1205) | Unincorporated areas of Bexar County (10-06-0377P) | September 28, 2010; October 5, 2010; The San Antonio Express-News | The Honorable Nelson W. Wolff, Bexar County Judge, 101 West Nueva Street, 10th Floor, San Antonio, TX 78204 | February 2, 2011 | 480035
Collin (FEMA Docket No.: B-1205) | City of Allen (10-06-0342P) | September 30, 2010; October 7, 2010; The Allen American | The Honorable Stephen Terrell, Mayor, City of Allen, 305 Century Parkway, Allen, TX 75013 | September 21, 2010 | 480131
Collin (FEMA Docket No.: B-1201) | City of Royse City (10-06-1217P) | September 22, 2010; September 29, 2010; The Royse City Herald Banner | The Honorable Jerrell Baley, Mayor, City of Royse City, 305 North Arch Street, Royse City, TX 75189 | January 27, 2011 | 480548
Collin (FEMA Docket No.: B-1201) | Unincorporated areas of Collin County (10-06-1217P) | September 22, 2010; September 29, 2010; The Dallas Morning News | The Honorable Keith Self, Collin County Judge, 2300 Bloomdale Road, Suite 4192, McKinney, TX 75071 | January 27, 2011 | 480130
Hays (FEMA Docket No.: B-1205) | Village of Wimberley (10-06-1474P) | September 29, 2010; October 6, 2010; The Wimberley View | The Honorable Bob Flocke, Mayor, Village of Wimberley, 221 Stillwater Road, Wimberley, TX 78676 | January 27, 2011 | 481694
Montgomery (FEMA Docket No.: B-1205) | City of Conroe (10-06-1318P) | February 11, 2011; February 18, 2011; The Conroe Courier | The Honorable Webb K. Melder, Mayor, City of Conroe, 300 West Davis Street, Conroe, TX 77305 | June 20, 2011 | 480484
Tarrant (FEMA Docket No.: B-1205) | City of Arlington (10-06-1764P) | December 15, 2010; December 22, 2010; The Fort Worth Star-Telegram | The Honorable Robert Cluck, M.D., Mayor, City of Arlington, 101 West Abram Street, Arlington, TX 76004 | April 21, 2011 | 485454
Tarrant (FEMA Docket No.: B-1201) | City of Fort Worth (10-06-1954P) | October 5, 2010; October 12, 2010; The Fort Worth Star-Telegram | The Honorable Betsy Price, Mayor, City of Fort Worth, 1000 Throckmorton Street, Fort Worth, TX 76102 | February 9, 2011 | 480596
Tarrant (FEMA Docket No.: B-1203) | City of Fort Worth (11-06-1741P) | April 5, 2011; April 12, 2011; The Commercial Recorder | The Honorable Betsy Price, Mayor, City of Fort Worth, 1000 Throckmorton Street, Fort Worth, TX 76102 | March 29, 2011 | 480596
Tarrant (FEMA Docket No.: B-1205) | City of Mansfield (10-06-0859P) | February 23, 2011; March 2, 2011; The Fort Worth Star-Telegram | The Honorable David Cook, Mayor, City of Mansfield, 1200 East Broad Street, Mansfield, TX 76063 | March 18, 2011 | 480606
Tarrant (FEMA Docket No.: B-1201) | City of North Richland Hills (10-06-1455P) | September 3, 2010; September 10, 2010; The Fort Worth Star-Telegram | The Honorable Oscar Trevino, Jr., P.E., Mayor, City of North Richland Hills, 7301 Northeast Loop 820, P.O. Box 820609, Richland Hills, TX 76182 | August 26, 2010 | 480607
Tarrant (FEMA Docket No.: B-1201) | City of North Richland Hills (10-06-1292P) | November 5, 2010; November 12, 2010; The Fort Worth Star-Telegram | The Honorable Oscar Trevino, Jr., P.E., Mayor, City of North Richland Hills, 7301 Northeast Loop 820, Richland Hills, TX 76182 | February 28, 2011 | 480607
Tarrant (FEMA Docket No.: B-1205) | City of Saginaw (10-06-0960P) | January 12, 2011; January 19, 2011; The Fort Worth Star-Telegram | The Honorable Gary Brinkley, Mayor, City of Saginaw, 333 West McLeroy Boulevard, Saginaw, TX 76179 | May 19, 2011 | 480610
Webb (FEMA Docket No.: B-1205) | Unincorporated areas of Webb County (10-06-0114P) | May 13, 2010; May 20, 2010; The Laredo Morning Times | The Honorable Danny Valdez, Webb County Judge, 1000 Houston Street, 3rd Floor, Laredo, TX 78040 | September 17, 2010 | 481059
Utah: Salt Lake (FEMA Docket No.: B-1206) | City of West Jordan (11-08-0575P) | April 29, 2011; May 6, 2011; The Salt Lake Tribune | The Honorable Melissa K. Johnson, Mayor, City of West Jordan, 8000 South Redwood Road, West Jordan, UT 84088 | April 25, 2011 | 490108

(Catalog of Federal Domestic Assistance No. 97.022, “Flood Insurance.”)

Dated: October 17, 2011.
Sandra K. Knight,
Deputy Associate Administrator for Mitigation, Department of Homeland Security, Federal Emergency Management Agency.

[FR Doc. 2011-28565 Filed 11-3-11; 8:45 am]

BILLING CODE 9110-12-P